DEPARTMENT OF EDUCATION

Office of Vocational and Adult Education; Overview Information; Community Technology Centers (CTC) Program; Notice Inviting Applications for New Awards for Fiscal Year (FY) 2004 for Novice and Non-Novice Applicants for the Community Technology Centers Program

Catalog of Federal Domestic Assistance (CFDA) Number: 84.341A.

Dates:

Applications Available: April 16, 2004.

Deadline for Transmittal of Applications: June 1, 2004.

Deadline for Intergovernmental Review: June 16, 2004.

Eligible Applicants: Eligible applicants shall be an entity, such as a foundation, museum, library, for-profit business, public or private nonprofit organization or community-based organization (including faith-based organizations), an institution of higher education, a State educational agency (SEA), a local educational agency (LEA) (including a charter school that meets its State's definition of an LEA), a private school, or a consortium of such entities, institutions, or agencies. To be eligible, an applicant must have the capacity to significantly expand access to computers and related services for disadvantaged residents of economically distressed urban and rural communities who would otherwise be denied such access.

One combined competition will be conducted for both non-novice and novice applicants. The Department will rank and fund the two groups separately. At least seventy-five percent of the funds will be set aside for non-novice applicants and up to twenty-five percent will be set aside for novice applicants.

Novice Applicants: An applicant is considered a “novice applicant” if it meets the following definition taken from 34 CFR 75.225(a)(1):

The applicant must—

(i) Have never received a grant or subgrant under the Community Technology Centers program;

(ii) Have never been a member of a group application, submitted in accordance with 34 CFR 75.127-75.129, that received a grant under the Community Technology Centers program; and

(iii) Have not had an active discretionary grant from the Federal Government in the five (5) years before the deadline date for applications in this competition.

34 CFR 75.225(a)(2) and (b) further interpret this definition in cases of group applications in this competition.

Estimated Available Funds: $10,000,000. Up to 25 percent of the available funds will be set aside for novice applicants.

Estimated Average Size of Awards: $350,000.

Minimum and Maximum Award Amounts: The minimum award amount is $250,000 and the maximum award amount is $500,000, for the 12-month project period. No grant application will be considered for funding if it requests an award amount outside the funding range of $250,000 to $500,000.

Estimated Number of Awards: 18-25.

Note: The Department is not bound by any estimates in this notice.

Project Period: Up to 12 months.

Full Text of Announcement

I. Funding Opportunity Description

Purpose of Program: As authorized by Title V, Part D, Subpart 11, Sections 5511-13 of the Elementary and Secondary Education Act of 1965 (ESEA), as amended by the No Child Left Behind Act of 2001 (NCLB), the purpose of the CTC program is to assist eligible applicants to create or expand community technology centers that provide disadvantaged residents of economically distressed urban and rural communities with access to information technology and related training.

Priorities: These priorities are from the notice of final requirements, priorities, and selection criteria for this program, published elsewhere in this issue of the Federal Register.

Absolute Priorities: For FY 2004 these priorities are absolute priorities. Under 34 CFR 75.105(c)(3) we consider only applications that meet these priorities. If you are not a novice applicant, as defined elsewhere in this notice, you must meet both priorities. Your application will be declared ineligible and will not be read if you do not address both of the absolute priorities. If you are a novice applicant, you must meet at least the second priority or your application will be declared ineligible and will not be read.

These priorities are:

Absolute Priority 1

This priority supports projects by eligible applicants that include a partnership with a community-based organization, on the one hand, and a local educational agency (including a charter school that meets its State's definition of an LEA), or a public school or a private school, on the other hand. To meet the priority, an applicant must clearly identify the partnering agencies and include a detailed plan of their working relationship, including a project budget that reflects fund disbursements to the various partnering agencies. Thus, the Secretary gives priority to projects in which the delivery of instructional services includes:

1. A community-based organization (CBO), which may include a faith-based organization, and

2. A local educational agency (LEA) (including a charter school that meets its State's definition of an LEA), or a public school or a private school.

A CBO is not required to submit a joint application with an LEA or school when applying for funds; however, the proposed project must deliver the educational services in partnership with an LEA (including a charter school that meets its State's definition of an LEA), or a public school or a private school.

An LEA (including a charter school that meets its State's definition of an LEA) or a private school also is not required to submit a joint application with a CBO when applying for funds; however, the proposed project must deliver the educational services in partnership with a CBO.

An eligible applicant, e.g., an institution of higher education, that is not a CBO or an LEA (including a charter school that meets its State's definition of an LEA) or a private school must enter into a partnership that includes a CBO, on the one hand, and an LEA (including a charter school that meets its State's definition of an LEA), or a public school or a private school, on the other hand, in the delivery of educational services.

An individual public school is not eligible to submit an application under the CTC program in general due to the authorizing statute's general eligibility restrictions. However, an individual public school may be included as a partner in an eligible applicant's proposed project and application.

This priority does not apply to novice applicants. Novice applicants are not required to meet the requirements of this priority.

Absolute Priority 2

This priority supports applicants that meet the following criteria:

Applicants must state whether they are proposing a local or State project. A local project must include one or more CTCs; a State project must include two or more CTCs. In addition, the project must be coordinated with one or more LEAs (including a charter school that meets its State's definition of an LEA), or a public school or a private school that provides supplementary instruction in the core academic subjects of reading or language arts, or mathematics, to low-achieving high school students. Projects must serve students who are entering or enrolled in grades 9 through 12 and who: (1) Have academic skills significantly below grade level, or (2) have not attained proficiency on State academic assessments mandated under Title I of the ESEA. Supplementary instruction may be delivered before or after school or at other times when school is not in session. Instruction may also be provided while school is in session, provided that it increases the amount of time students receive instruction in core academic subjects and does not require their removal from class. The instructional strategies used must be based on practices that have proven effective for improving the academic performance of low-achieving students. If these services are not provided directly by an LEA or school, they must be provided in coordination with an LEA or school. Each applicant must demonstrate how their project's proposed academic approach is aligned with the secondary school curricula of the school or schools in which the students to be served by the grant are entering or enrolled.

Program Authority: 20 U.S.C. 7263-7263b.

Applicable Regulations: (a) The Education Department General Administrative Regulations (EDGAR) in 34 CFR parts 75, 77, 79, 80, 81, 82, 84, 85, 86, 97, 98, and 99; and (b) the notice of final requirements, priorities, and selection criteria, published elsewhere in this issue of the Federal Register.

Note: The regulations in part 79 apply to all applicants except federally recognized Indian tribes.

Note: The regulations in part 86 apply to institutions of higher education only.

II. Award Information

Type of Award: Discretionary grants.

Estimated Available Funds: $10,000,000. Up to 25 percent of the available funds will be set aside for novice applicants.

Estimated Average Size of Awards: $350,000.

Minimum and Maximum Award Amounts: The minimum award amount is $250,000 and the maximum award amount is $500,000, for the 12-month project period. No grant application will be considered for funding if it requests an award amount outside the funding range of $250,000 to $500,000.

Estimated Number of Awards: 18-25.

Note: The Department is not bound by any estimates in this notice.

Project Period: Up to 12 months.

III. Eligibility Information

1. Eligible Applicants: Eligible applicants shall be an entity, such as a foundation, museum, library, for-profit business, public or private nonprofit organization or community-based organization (including faith-based organizations), an institution of higher education, an SEA, an LEA (including a charter school that meets its State's definition of an LEA), a private school, or a consortium of such entities, institutions, or agencies. To be eligible, an applicant must have the capacity to significantly expand access to computers and related services for disadvantaged residents of economically distressed urban and rural communities who would otherwise be denied such access.

One combined competition will be conducted for both non-novice and novice applicants. The Department will rank and fund the two groups separately. At least seventy-five percent of the funds will be set aside for non-novice applicants and up to twenty-five percent will be set aside for novice applicants.

Novice Applicants: An applicant is considered a “novice applicant” if it meets the following definition taken from 34 CFR 75.225(a)(1):

The applicant must—

(i) Have never received a grant or subgrant under the Community Technology Centers program;

(ii) Have never been a member of a group application, submitted in accordance with 34 CFR 75.127-75.129, that received a grant under the Community Technology Centers program; and

(iii) Have not had an active discretionary grant from the Federal Government in the five (5) years before the deadline date for applications in this competition.

34 CFR 75.225(a)(2) and (b) further interpret this definition in cases of group applications in this competition.

2. Cost Sharing or Matching: Pursuant to section 5512(c) of the ESEA, as amended by the NCLB, Federal funds may not be used to pay for more than 50 percent of total CTC project costs. In order to receive a grant award under the CTC competition, each applicant must furnish from non-Federal sources at least 50 percent of its total project costs. Applicants may satisfy this requirement in cash or in kind, fairly evaluated, including services. Each applicant must provide a dollar-for-dollar match of the amount requested from the Federal Government. An example of an allowable match would be a situation in which an applicant requested $250,000 in Federal funds (the mandatory minimum request). In that situation, the applicant would be required to furnish at least $250,000 in cash or in kind from non-Federal funds, fairly evaluated, resulting in a total project cost of $500,000.

IV. Application and Submission Information

1. Address to Request Application Package: You may obtain an electronic copy of the application package for this competition via Internet by accessing the Department's Web site at: www.ed.gov.GrantApps. To request a paper copy of the application package, you may contact Karen Holliday, U.S. Department of Education, OVAE, 400 Maryland Avenue, SW., Washington, DC 20202-7110. Telephone: (202) 245-7708 or via Internet at: Karen.Holliday@ed.gov.

If you use a telecommunications device for the deaf (TDD), you may call the Federal Information Relay Service (FIRS) at 1-800-877-8339.

Individuals with disabilities may obtain a copy of the application package in an alternative format (e.g., Braille, large print, audiotape, or computer diskette) on request to the contact person listed in this section.

2. Content and Form of Application Submission: Requirements concerning the content of an application, together with the forms you must submit, are in the application package for this program.

Page Limit: Please note that the program narrative of the application must not exceed the equivalent of 25 pages. The abstract and table of contents pages will not count against the 25 page limit. In addition, budget information must not exceed 5 pages (which includes one page for the ED524 form and four pages for the narrative). Appendices must be limited to 15 pages.

The selection criteria used by reviewers to evaluate your application are to be addressed in the application narrative. Applicants must limit the narrative to the equivalent of no more than 25 pages, using the following standards:

• A “page” is 8.5″ × 11″ on one side only, with 1″ margins at the top, bottom, and both sides.

• Double space all text in the application narrative.

• Use a 12-point font.

• If you are not a novice applicant, start page numbering with your response to the first priority. Novice applicants should start page numbering with their response to the second priority.

• Applicants must limit the budget narrative to four pages and the appendices to 15 pages using the aforementioned standards.

We will reject your application if —

• You apply these standards and exceed the page limit; or,

• You apply other standards and exceed the equivalent of the page limit.

3. Submission Dates and Times:

Applications Available: April 16, 2004.

Deadline for Transmittal of Applications: June 1, 2004. The dates, times and procedures for the transmittal of applications are described in paragraph 6 of this section and are in the application package for this program.

We do not consider an application that does not comply with the deadline requirements.

Deadline for Intergovernmental Review: June 16, 2004.

4. Intergovernmental Review: This program is subject to Executive Order 12372 and the regulations in 34 CFR part 79. Information about Intergovernmental Review of Federal Programs under Executive Order 12372 is in the application package for this program.

5. Funding Restrictions: Federal funds must be used for costs that are allowable under the Community Technology Centers program and cannot be used for construction, food, stipends, childcare, or security personnel.

6. Procedures for Submitting Applications:

a. Applications Submitted Electronically.

We are requiring that applications for grants under the Community Technology Centers Program—CFDA Number 84.341A be submitted electronically. The Government Paperwork Elimination Act (GPEA) of 1998 (P.L. 105-277) and the Federal Financial Assistance Management Improvement Act of 1999 (P.L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Note: Some of the procedures in these instructions for transmitting applications differ from those in the Education Department General Administrative Regulations (EDGAR)(34 CFR 75.102). Under the Administrative Procedure Act (5 U.S.C. 553) the Department generally offers interested parties the opportunity to comment on proposed regulations. However, these amendments make procedural changes only and do not establish new substantive policy. Therefore, under 5 U.S.C. 553(b)(A), the Secretary has determined that rulemaking is not required.

We are requiring that applications for grants under the Community Technology Centers Program—CFDA Number 84.341A be submitted electronically using the Electronic Grant Application System (e-Application) available through the Department's e-GRANTS system. The e-GRANTS system is accessible through its portal page at: http://e-grants.ed.gov.

If you are unable to submit an application through the e-GRANTS system, you may submit a written request for a waiver of the electronic submission requirement. In your request, you should explain the reason or reasons that prevent you from using the Internet to submit your application. Address your request to: Karen Holliday, U.S. Department of Education, 400 Maryland Avenue, SW., Washington, DC 20202-7110. Please submit your request no later than two weeks before the application deadline date.

If, within two weeks of the application deadline date, you are unable to submit an application electronically, you must submit a paper application by the application deadline date in accordance with the transmittal instructions described in this notice and in the application package. The paper application must include a written request for a waiver documenting the reasons that prevented you from using the Internet to submit your application.

Pilot Project for Electronic Submission of Applications: We are continuing to expand our pilot project for electronic submission of applications to include additional formula grant programs and additional discretionary grant competitions. The Community Technology Centers Program—CFDA Number 84.341A is one of the programs included in the pilot project. If you are an applicant under the Community Technology Centers Program, you must submit your application to us in electronic format unless a request to receive a waiver has been made pursuant to the instructions provided herein.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• You must submit your grant application electronically through the Internet using the software provided on the e-Grants Web site (http://e-grants.ed.gov) by 4:30 p.m. (Washington, DC time) on the application deadline date. The regular hours of operation of the e-Grants Web site are 6 a.m. Monday until 7 p.m. Wednesday; and 6 a.m. Thursday until midnight Saturday (Washington, DC time). Please note that the system is unavailable on Sundays, and after 7 p.m. on Wednesdays for maintenance (Washington, DC time). Any modifications to these hours are posted on the e-Grants Web site. We strongly recommend that you do not wait until the application deadline date to initiate an e-Application package.

• You will not receive additional point value because you submit a grant application in electronic format, nor will we penalize you if you submit an application in paper format because you were prevented from submitting it electronically as required.

• You must submit all documents electronically, including the Application for Federal Education Assistance (ED 424), the Community Technology Centers Program Grant Application Package Coversheet, Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) cover sheet to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under For Further Information Contact (see VII. Agency Contact) or (2) the e-GRANTS help desk at 1-888-336-8930.

You may access the electronic grant application for the Community Technology Centers Program, CFDA No: 84.341A at: http://e-grants.ed.gov.

b. Applications Delivered by Mail.

An original and two copies of an application for an award must be mailed or hand-delivered by the application deadline date if you have requested a waiver of the electronic application submission requirement. We do not consider an application that does not comply with the deadline requirements.

Applications sent by mail must be addressed to: U.S. Department of Education, Application Control Center, Attention: (CFDA Number 84.341A), Room 3671, Regional Office Building 3, 400 Maryland Avenue, SW., Washington, DC 20202-4725.

Applicants must show proof of mailing consisting of one of the following:

(1) A legibly dated U.S. Postal Service Postmark;

(2) A legible mail receipt with the date of mailing stamped by the U.S. Postal Service;

(3) A dated shipping label, invoice, or receipt from a commercial carrier; or

(4) Any other proof of mailing acceptable to the U.S. Secretary of Education.

If an application is sent through the U.S. Postal Service, the Secretary does not accept either of the following as proof of mailing:

(1) A private metered postmark, or

(2) A mail receipt that is not dated by the U.S. Postal Service.

Applicants should note that the U.S. Postal Service does not uniformly provide a dated postmark. Before relying on this method, you should check with your local post office.

If you send your application by mail, the Application Control Center will mail a Grant Application Receipt Acknowledgment to you. If you do not receive the notification of application receipt within 15 days from the mailing of the application, you should call the U.S. Department of Education Application Control Center at (202) 708-9493.

You must indicate on the envelope and-if not provided by the Department-in Item 4 of the Application for Federal Education Assistance (ED 424 (exp. 11/30/2004)) the CFDA number—and suffix letter, if any—of the competition under which you are submitting your application.

If your application is post marked after the deadline date, we will notify you that we will not consider the application.

c. Applications Delivered by Hand/Courier Service.

An application that is hand-delivered must be taken to:

U.S. Department of Education, Application Control Center, Attention: (CFDA Number 84.341A), Room 3671, Regional Office Building 3, 7th & D Streets, SW., Washington, DC 20202-4725.

The Application Control Center accepts deliveries daily between 8 a.m. and 4:30 p.m. (Washington, DC time), except Saturdays, Sundays and Federal holidays. A person delivering an application must use the D Street entrance only. A person delivering an application must show identification to enter the building.

If you send your application by courier or hand delivery, the Application Control Center will mail a Grant Application Receipt Acknowledgment to you. If you do not receive the notification of application receipt within 15 days from the delivery of the application, you should call the U.S. Department of Education Application Control Center at (202) 708-9493.

You must indicate on the envelope and—if not provided by the Department—in Item 4 of the Application for Federal Education Assistance (ED 424 (exp. 11/30/2004)) the CFDA number—and suffix letter, if any—of the competition under which you are submitting your application.

V. Application Review Information

1. Selection Criteria: The following criteria will be used to evaluate applications submitted for grants under the CTC program. The maximum score for an application is 100 points. The maximum score for each criterion or factor under that criterion is indicated in parentheses.

(a) Need for the Project. (10 points) In evaluating the need for the proposed project, we will consider the extent to which the proposed project will:

(1) Serve students from low-income families;

(2) Serve students entering or enrolled in high schools (9th through 12th grades) that are among the high schools in the State that have the highest numbers or percentages of students who have not achieved proficiency on the State academic assessments required by Title I of ESEA, or who have academic skills in reading or language arts, or mathematics, that are significantly below grade level;

(3) Serve students who have the greatest need for supplementary instruction, as indicated by their scores on State or local standardized assessments in reading or language arts, or mathematics, or some other local measure of performance in reading or language arts, or mathematics; and

(4) Create or expand access to information technology and related training for disadvantaged residents of distressed urban or rural communities.

(b) Quality of the Project Design. (35 points) In evaluating the quality of the project design, we will consider the extent to which the proposed project will adequately and effectively investigate and incorporate in its implementation plan the following elements:

(1) Provide instructional services that will be of sufficient size, scope, and intensity to improve the academic performance of participating students;

(2) Incorporate strategies that have proven effective for improving the academic performance of low-achieving students;

(3) Implement strategies in recruiting and retaining students that have proven effective;

(4) Provide instruction that is aligned with the high school curricula of the schools in which the students to be served by the grant are entering or enrolled; and

(5) Provide high-quality, sustained, and intensive professional development for personnel who provide instruction to students.

(c) Quality of the Management Plan. (15 points) In evaluating the quality of the management plan, we consider the extent to which the proposed project:

(1) Outlines specific, measurable goals, objectives, and outcomes to be achieved by the proposed project;

(2) Assigns responsibility for the accomplishment of project tasks to specific project personnel, and provides timelines for the accomplishment of project tasks;

(3) Requires appropriate and adequate time commitments of the project director and other key personnel to achieve the objectives of the proposed project; and

(4) Includes key project personnel, including the project director and other staff, with appropriate qualifications and relevant training and experience.

(d) Adequacy of Resources. (20 points) In determining the adequacy of the resources for the proposed project, we consider the following factors:

(1) The adequacy of support, including facilities, equipment, supplies, and other resources, from the applicant;

(2) The extent to which a preponderance of project resources will be used for activities designed to improve the academic performance of low-achieving students in grades 9 through 12 in reading and/or mathematics;

(3) The extent to which the budget is adequate and costs are reasonable in relation to the objectives and design of the proposed project; and

(4) The potential for continued support of the project after Federal funding ends, including, as appropriate, the demonstrated commitment of appropriate entities to such support.

(e) Quality of the Evaluation. (20 points) In determining the quality of the project evaluation, we consider the extent to which the application:

(1) Includes a plan that utilizes evaluation methods that are feasible and appropriate to the goals and outcomes of the project;

(2) Will regularly examine the progress and outcomes of participating students on a range of appropriate performance measures and has a plan for utilizing such information to improve project activities and instruction;

(3) Will use an independent, external evaluator with the necessary background and technical expertise to assess the performance of the project; and

(4) Effectively demonstrates that the applicant has adopted a rigorous evaluation design.

2. Review and Selection Process: Applicants that are NOT novice applicants (the definition of a “novice applicant” is provided elsewhere in this notice) must meet both absolute priorities in their applications or their applications will be rejected. Novice applicants must meet the second absolute priority in their applications or their applications will be rejected.

VI. Award Administration Information

1. Award Notices: If your application is successful, we notify your U.S. Representative and U.S. Senators and send you a Grant Award Notification (GAN).

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

Note: The requirements listed in this notice are material requirements. A failure to comply with any applicable program requirement (for example, failure to show improvement on the required performance measures by the end of the year of the grant cycle) may subject a grantee to administrative action, including but not limited to designation as a “high-risk” grantee, the imposition of special conditions or the ineligibility to receive other awards from the Department of Education.

3. Reporting: At the end of your project period, you must submit a final performance report, including financial information, as directed by the Secretary.

4. Performance Measures: The Secretary requires applicants for CTC grants to identify in their application specific goals and performance objectives for each of these goals to measure the progress of their project:

a. The number of disadvantaged students in high schools within the distressed areas that have access to information technology to help improve their academic performance.

b. The percentage of schools participating in the partnerships for community technology centers that meet their adequate yearly progress as defined by Title I of the ESEA.

In addition to the two required measures listed above, applicants may choose to set performance levels for other appropriate measures, such as:

a. Achievement and gains in English proficiency of limited English proficient students; and

b. The level of teacher, student, and parent satisfaction with the Community Technology Centers services provided.

VII. Agency Contact

For Further Information Contact: Karen Holliday, U.S. Department of Education, OVAE, 400 Maryland Avenue, SW., Washington, DC 20202-7110. Telephone: (202) 245-7708 or via Internet at: Karen.Holliday@ed.gov.

If you use a telecommunications device for the deaf (TDD), you may call the Federal Information Relay Service (FIRS) at 1-800-877-8339.

Individuals with disabilities may obtain this document in an alternate format (e.g., Braille, large print, audiotape, or computer diskette) on request to the contact person listed in this section.

VIII. Other Information

Electronic Access to This Document

You may view this document, as well as all other documents of this Department published in the Federal Register, in text or portable document format (PDF) on the Internet at the following site: http://www.ed.gov/news/fedregister.

To use PDF you must have Adobe Acrobat Reader, which is available free at this site. If you have questions about using PDF, call the U.S. Government Printing Office (GPO) toll free at 1-888-293-6498, or in the Washington, DC, area at (202) 512-1530.

Note: The official version of this document is the document published in the Federal Register. Free Internet access to the official edition of the Federal Register and the Code of Federal Regulations is available on GPO Access at: http://www.gpoaccess.gov/nara/index.html.

Dated: April 12, 2004.
Susan Sclafani,
Assistant Secretary for Vocational and Adult Education.

[FR Doc. 04-8660 Filed 4-15-04; 8:45 am]

BILLING CODE 4000-01-P